DEPARTMENT OF ENERGY

Federal Energy Regulatory Commission

Combined Notice of Filings #1

Take notice that the Commission received the following electric rate filings:

Docket Numbers: ER19-1526-000.

Applicants: Duke Energy Carolinas, LLC.

Description: Tariff Cancellation: DEC- Cancellation Filing RS Nos. 327, 331, 334 (Concord, Kings Mtn, Greenwood) to be effective 6/5/2019.

Filed Date: 4/5/19.

Accession Number: 20190405-5044.

Comments Due: 5 p.m. ET 4/26/19.

Docket Numbers: ER19-1527-000.

Applicants: SmartestEnergy US LLC.

Description: Baseline eTariff Filing: SmartestEnergy US LLC MBR Tariff to be effective 4/5/2019.

Filed Date: 4/5/19.

Accession Number: 20190405-5066.

Comments Due: 5 p.m. ET 4/26/19.

Docket Numbers: ER19-1528-000.

Applicants: PJM Interconnection, L.L.C.

Description: § 205(d) Rate Filing: Original ISA, SA No. 5319; Queue No. AB2-015 to be effective 3/7/2019.

Filed Date: 4/5/19.

Accession Number: 20190405-5097.

Comments Due: 5 p.m. ET 4/26/19.

Docket Numbers: ER19-1529-000.

Applicants: Southern California Edison Company.

Description: § 205(d) Rate Filing: Third Amendment to IFA—Riverside Wilderness, SA No. 59 to be effective 4/6/2019.

Filed Date: 4/5/19.

Accession Number: 20190405-5098.

Comments Due: 5 p.m. ET 4/26/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2019.
Nathaniel J. Davis, Sr.,
Deputy Secretary.

[FR Doc. 2019-07161 Filed 4-10-19; 8:45 am]

BILLING CODE 6717-01-P